FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012082-001.

Title: HSDG/CCNI Space Charter Agreement.

Parties: Compania Chilena de Navegacion Interoceania S.A. (“CCNI”) and Hamburg-Sud.

Filing Parties: Wayne R. Rohde, Esq.; Cozen O'Connor; 1627 I Street, NW., Suite 1100; Washington, DC 20006.

Synopsis: The amendment would add Brazil to the geographic scope of the Agreement and delete obsolete language regarding duration of the Agreement. The Parties request expedited review.

Dated: January 25, 2011.
By Order of the Federal Maritime Commission.
Karen V. Gregory,
Secretary.

[FR Doc. 2011-1913 Filed 1-27-11; 8:45 am]

BILLING CODE P